DEPARTMENT OF HOMELAND SECURITY

Transportation Security Administration

Extension of Agency Information Collection Activity Under OMB Review: Law Enforcement Officer Flying Armed Training

AGENCY: Transportation Security Administration, DHS.

ACTION: 30 Day Notice.

SUMMARY: This notice announces that the Transportation Security Administration (TSA) has forwarded the Information Collection Request (ICR), OMB control number 1652-0034, abstracted below to the Office of Management and Budget (OMB) for review and approval of an extension of the currently approved collection under the Paperwork Reduction Act. The ICR describes the nature of the information collection and its expected burden. TSA published a Federal Register notice, with a 60-day comment period soliciting comments, of the following collection of information on June 03, 2008, 73 FR 31706. The collection involves the TSA Office of Law Enforcement/Federal Air Marshal Service (OLE/FAMS) maintenance of a database of all federal, state and local law enforcement agencies who have received the Law Enforcement Officer (LEO) Flying Armed Training course.

DATES: Send your comments by October 17, 2008. A comment to OMB is most effective if OMB receives it within 30 days of publication.

ADDRESSES: Interested persons are invited to submit written comments on the proposed information collection to the Office of Information and Regulatory Affairs, Office of Management and Budget. Comments should be addressed to Desk Officer, Department of Homeland Security/TSA, and sent via electronic mail to oira_submission@omb.eop.gov or faxed to (202) 395-6974.

FOR FURTHER INFORMATION CONTACT: Joanna Johnson, Communications Branch, Business Management Office, Operational Process and Technology, TSA-32, Transportation Security Administration, 601 South 12th Street, Arlington, VA 22202-4220; telephone (571) 227-3651; facsimile (703) 603-0822.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA solicits comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Law Enforcement Officer Flying Armed Training.

Type of Request: Extension of a currently approved collection.

OMB Control Number: 1652-0034.

Forms(s): N/A.

Affected Public: Law Enforcement Officers.

Abstract: TSA requires federal, state and local law enforcement officers (LEOs) who have a mission need to fly armed to complete the LEO Flying Armed Training under 49 CFR 1544.219. Eligibility is based on requirements stated in 49 CFR 1544.219. TSA will gather information, including agency name, address, and name of each individual who will receive the training, from law enforcement agencies that have requested the LEO Flying Armed training course. Applicant verification ensures that only LEOs with a valid need to fly armed aboard commercial aircraft receive training. Applicants come from federal, state and local law enforcement agencies throughout the country.

Number of Respondents: 600.

Estimated Annual Burden Hours: 50 hours annually.

Issued in Arlington, Virginia, on September 11, 2008.
John Manning,
Acting Director Business Management Office, Office of Information Technology.

[FR Doc. E8-21720 Filed 9-16-08; 8:45 am]

BILLING CODE 9110-05-P